DEPARTMENT OF HEALTH AND HUMAN SERVICES

Centers for Disease Control and Prevention

[30Day-10-10BA]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-3806. Written comments should be received within 30 days of this notice.

Proposed Project

Development and Testing of an HIV Prevention Intervention Targeting Black Bisexually-Active Men—New—National Center for HIV/AIDS, Viral Hepatitis, STD, and Tuberculosis Prevention (NCHHSTP), Centers for Disease Control and Prevention (CDC).

Background and Brief Description

African Americans continue to be disproportionately affected by HIV/AIDS. Results from the National HIV Behavioral Surveillance Project showed that during 2001-2004 African-Americans accounted for the majority of HIV/AIDS diagnoses in 33 states. Black men who have sex with men (MSM) have been identified as the population with the highest rates of HIV infection in the U.S. and as a population in need of new HIV prevention interventions. Previous research indicates that 20% to 40% of Black MSM also have female sex partners. Interventions developed for gay men may not be relevant or appropriate for men who have sex with men and women (MSMW), many of whom do not self-identify as gay and who may need different prevention strategies for their male and female partners. There are no effective HIV risk reduction interventions for African-American MSMW.

The purpose of the proposed study is to develop and pilot-test three novel behavioral interventions to reduce sexual risk for HIV infection and transmission among African-American MSMW who do not inject drugs. Eligible respondents will be recruited using chain referral sampling techniques. Three study sites (Public Health Management Corporation (PHMC), Nova Southeastern University (NOVA), and California State University (CSU) at Dominguez Hills) will use a randomized controlled trial to evaluate the effectiveness of the intervention. Depending on the site, respondents will be reimbursed up to a total of $305 for their time and effort over the course of the study. If these interventions are found to be effective, organizations that implement risk-reduction interventions will be able to use the curricula to intervene with this population more successfully. Ultimately, the beneficiary of this data collection will be African-American MSMW. There is no cost to respondents other than their time. The total estimated annual burden hours are 2,250.

Estimate of Annualized Burden Table
Type of respondent | Form name | Number of respondents | Responses per respondents | Average burden per response (in hours)
Prospective Participant | Screener | 1,250 | 1 | 5/60
Enrolled Participant | Locator Form | 750 | 1 | 10/60
Enrolled Participant—PHMC | Baseline Assessment | 250 | 1 | 1
Enrolled Participant—Nova | Baseline Assessment | 240 | 1 | 1
Enrolled Participant—CSU | Baseline Assessment | 260 | 1 | 1
Enrolled Participant—PHMC | Acceptability/Feasibility Survey | 250 | 6 | 10/60
Enrolled Participant—Nova | Acceptability/Feasibility Survey | 240 | 1 | 10/60
Enrolled Participant—CSU | Acceptability/Feasibility Survey | 260 | 1 | 10/60
Enrolled Participant—PHMC | Immediate Follow-Up Assessment | 225 | 1 | 30/60
Enrolled Participant—Nova | Immediate Follow-Up Assessment | 216 | 1 | 30/60
Enrolled Participant—CSU | Immediate Follow-Up Assessment | 234 | 1 | 30/60
Enrolled Participant—PHMC | 3 month Follow-Up Assessment | 200 | 1 | 1
Enrolled Participant—Nova | 3 month Follow-Up Assessment | 192 | 1 | 1
Enrolled Participant—CSU | 3 month Follow-Up Assessment | 208 | 1 | 1

Dated: May 4, 2010.
Maryam I. Daneshvar,
Acting Reports Clearance Officer, Centers for Disease Control and Prevention.

[FR Doc. 2010-11058 Filed 5-7-10; 8:45 am]

BILLING CODE 4163-18-P